DEPARTMENT OF TRANSPORTATION

Federal Aviation Administration

Notice of Intent To Rule on Request To Change 1.2 Acres of Airport Land in the Existing Business Park From Aeronautical to Non-Aeronautical Use at Martha's Vineyard Airport, West Tisbury, MA

AGENCY: Federal Aviation Administration (FAA), Transportation (DOT).

ACTION: Request for public comments.

SUMMARY: Notice is being given that the FAA is considering a request from the County of Dukes to change 1.2 acres of land from Aeronautical Use to Non-Aeronautical Use in the existing Airport Business Park at Martha's Vineyard Airport, West Tisbury, MA. The two parcels are being used for non-aeronautical development in the Airport Business Park. The Airport Business Park was established over twenty years ago and supports the revenue stream for the airport. The land lease proceeds will be deposited in the airport's operation and maintenance account.

DATES: Comments must be received on or before July 6, 2022.

ADDRESSES: You may send comments using any of the following methods:

• Federal eRulemaking Portal: Go to https://www.regulations.gov, and follow the instructions on providing comments.

• Fax: 202-493-2251.

• Mail: U.S. Department of Transportation, Docket Operations, M-30, West Building, Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts, 01803. Telephone: 781-238-7618.

Authority: 49 U.S.C 47107(h)(2).

Issued in Burlington, Massachusetts on June 3, 2022.
Julie Seltsam-Wilps,
Deputy Director, ANE-600.

[FR Doc. 2022-12354 Filed 6-8-22; 8:45 am]

BILLING CODE 4910-13-P